DEPARTMENT OF LABOR

Occupational Safety and Health Administration

[Docket No. OSHA-2018-0012]

Advisory Committee on Construction Safety and Health (ACCSH): Notice of Membership and Meeting

AGENCY: Occupational Safety and Health Administration (OSHA), Labor.

ACTION: Notice of ACCSH membership and meeting.

SUMMARY: On May 13, 2019, the Secretary of Labor (the Secretary) appointed 15 members to serve on ACCSH. OSHA also announces ACCSH will meet July 17-18, 2019.

FOR FURTHER INFORMATION CONTACT:

For press inquiries: Mr. Frank Meilinger, Director, OSHA Office of Communications, U.S. Department of Labor; telephone (202) 693-1999; email: meilinger.francis2@dol.gov.

For general information about ACCSH: Mr. Damon Bonneau, OSHA, Directorate of Construction, U.S. Department of Labor; telephone (202) 693-2183; email: bonneau.damon@dol.gov.

For copies of this Federal Register Notice: Electronic copies of this Federal Register Notice are available at: http://www.regulations.gov. This notice, as well as news releases and other relevant information, are also available at OSHA's web page at www.osha.gov.

SUPPLEMENTARY INFORMATION:

I. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the OSH Act and CSA require the Assistant Secretary to consult with ACCSH before the agency proposes any occupational safety and health standard affecting construction activities (29 CFR 1911.10; 40 U.S.C. 3704).

ACCSH operates in accordance with the CSA, the OSH Act, the Federal Advisory Committee Act (FACA) (5 U.S.C. App. 2), and regulations issued pursuant to those statutes (29 CFR part 1912, 41 CFR part 102-3). ACCSH generally meets two times a year.

II. Appointment of Committee Members

ACCSH consists of 15 members appointed by the Secretary. ACCSH members generally serve two-year terms, unless they resign, cease to be qualified, become unable to serve, or the Secretary removes them (29 CFR 1912.3(e)). The Secretary may appoint ACCSH members to successive terms.

The allocation of members for each category of ACCSH membership is:

• Five members who are qualified by experience and affiliation to present the viewpoint of employees in the construction industry;

• Five members who are similarly qualified to present the viewpoint of employers in the construction industry;

• Two public members, qualified by knowledge and experience to make a useful contribution to the work of ACCSH, such as those who have professional or technical experience and competence with occupational safety and health in the construction industry;

• Two representatives of State safety and health agencies; and

• One representative designated by the Secretary of the Department of Health and Human Services.

OSHA received nominations of highly qualified individuals in response to the agency's request for nominations (83 FR 46972, September 17, 2018). The Secretary appointed individuals to serve on the Committee who have broad experience relevant to the issues to be examined by the Committee. The ACCSH membership is as follows:

Employee Representatives

• Palmer L. Hickman, Electrical Training ALLIANCE;

• Randall A. Krocka, Sheet Metal Occupational Health Institute Trust;

• Mark S. Mullins, Elevator Industry Work Preservation Fund;

• Richard Tessier, United Union of Roofers, Waterproofers, and Allied Workers Representative Research and Education Joint Trust; and

• Christina Trahan Cain, North America's Building Trades Unions.

Employer Representatives

• Kevin Cannon, Associated General Contractors of America (ACCSH Chair);

• Fravel Combs, M.A. Mortenson Company;

• Cindy DePrater, Turner Construction Company;

• Greg Sizemore, Associated Builders and Contractors; and

• Wesley L. Wheeler, National Electrical Contractors Association.

Public Representatives

• Christopher Fought, General Motors, LLC; and

• R. Ronald Sokol, Safety Council of Texas City.

State Representatives

• Christopher Mabry, North Carolina Department of Labor; and

• Charles Stribling, Kentucky Labor Cabinet Department of Workplace Standards.

Federal Representative

• Dr. G. Scott Earnest, National Institute for Occupational Safety and Health.

III. Meeting Information

DATES: ACCSH will meet from 12:00 to 4:00 p.m., ET, Wednesday, July 17, 2019, and from 9:00 a.m. to 4:00 p.m., ET, Thursday, July 18, 2019.

ADDRESSES: The Committee will meet at the U.S. Department of Labor, 200 Constitution Avenue NW, Washington, DC 20210. The Committee will meet in Conference Rooms N-5437 A, B, C, & D. Meeting attendees must use the visitor's entrance located at 3rd & C Streets NW.

Meeting agenda: The tentative agenda for this meeting includes:

• Assistant Secretary's agency update and remarks;

• Directorate of Construction update;

• ACCSH's consideration of, and recommendation on, the following proposals:

—Adding a reference to the definition of “confined space” that applies to welding activities in construction;

—Clarifying the requirements for the fit of personal protective equipment in construction;

• Directorate of Cooperative and State Programs update;

• Directorate of Standards and Guidance update;

• Directorate of Technical Support and Emergency Management update;

• Directorate of Training and Education update;

• NIOSH update;

• Office of Communications update;

• Safety Stand-Down updates; and,

• Public Comment Period.

Submission of comments and requests to speak: Submit comments and requests to speak at the ACCSH meeting by July 5, 2019, identified by the docket number for this Federal Register notice (Docket No. OSHA-2018-0012), using one of the following methods:

Electronically: You may submit comments, including attachments, electronically at: http://www.regulations.gov, the Federal eRulemaking Portal. Follow the online instructions for submitting comments.

Facsimile: If your comments, including attachments, do not exceed 10 pages, you may fax them to the OSHA Docket Office at (202) 693-1648.

Regular mail, express mail, hand delivery, and messenger or courier service: You may submit comments and attachments to the OSHA Docket Office, Docket No. OSHA-2018-0012, Occupational Safety and Health Administration, U.S. Department of Labor, Room N-3653, 200 Constitution Avenue NW, Washington, DC 20210. Deliveries (express mail, hand (courier) delivery, and messenger service) are accepted during the OSHA Docket Office's normal business hours, 10:00 a.m. to 3:00 p.m., ET.

Requests for special accommodations: Submit requests for special accommodations for this ACCSH meeting by July 5, 2019, to Ms. Veneta Chatmon, OSHA, Directorate of Construction, Room N-3468, U.S. Department of Labor, 200 Constitution Avenue NW, Washington, DC 20210; telephone (202) 693-2020; email: chatmon.veneta@dol.gov.

Instructions: All submissions must include the agency name and the OSHA docket number for this Federal Register notice (Docket No. OSHA-2018-0012). Because of security-related procedures, submissions by regular mail may result in a significant delay in receipt. Please contact the OSHA Docket Office for information about security procedures for making submissions by express mail, hand (courier) delivery, and messenger service.

OSHA will place comments and requests to speak, including personal information, in the public docket, which may be available online. Therefore, OSHA cautions interested parties about submitting personal information such as Social Security Numbers and birthdates.

Docket: To read or download documents in the public docket for this ACCSH meeting, go to http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

Authority and Signature

Loren Sweatt, Acting Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on June 11, 2019.
Loren Sweatt,
Acting Assistant Secretary of Labor for Occupational Safety and Health.

[FR Doc. 2019-12676 Filed 6-14-19; 8:45 am]

BILLING CODE 4510-26-P